DEPARTMENT OF COMMERCE

International Trade Administration

[A-583-833]

Polyester Staple Fiber From Taiwan: Final Results of Antidumping Duty Administrative Review; 2012-2013

AGENCY: Enforcement and Compliance, International Trade Administration, Department of Commerce.

SUMMARY: On June 13, 2014, the Department of Commerce (the Department) published the preliminary results of the administrative review of the antidumping duty order on polyester staple fiber (PSF) from Taiwan.¹ For these final results, we continue to find that Far Eastern New Century Corporation (FENC) has not sold subject merchandise at less than normal value, and that Nan Ya Plastics Corporation (Nan Ya) had no shipments during the period of review (POR).

¹ See Polyester Staple Fiber From Taiwan: Preliminary Results of Antidumping Duty Administrative Review; 2012-2013, 79 FR 33906 (June 13, 2014) (Preliminary Results).

DATES: Effective Date: September 11, 2014

FOR FURTHER INFORMATION CONTACT: Jerrold Freeman or Minoo Hatten, AD/CVD Operations, Office I, Enforcement and Compliance, International Trade Administration, U.S. Department of Commerce, 14th Street and Constitution Avenue NW., Washington, DC 20230; telephone: (202) 482-0180, and (202) 482-1690, respectively.

SUPPLEMENTARY INFORMATION:

Background

On June 13, 2014, the Department published the Preliminary Results. The POR is May 1, 2012 through April 30, 2013. We invited interested parties to comment on the Preliminary Results. We received no comments.

The Department conducted this administrative review in accordance with section 751(a) of the Tariff Act of 1930, as amended (the Act).

Scope of the Order

The product covered by the order is PSF. PSF is defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon or other finish, or not coated. PSF is generally used as stuffing in sleeping bags, mattresses, ski jackets, comforters, cushions, pillows, and furniture. Merchandise of less than 3.3 decitex (less than 3 denier) currently classifiable in the Harmonized Tariff Schedule of the United States (HTSUS) at subheading 5503.20.00.20 is specifically excluded from the order. Also specifically excluded from the order are PSF of 10 to 18 denier that are cut to lengths of 6 to 8 inches (fibers used in the manufacture of carpeting). In addition, low-melt PSF is excluded from the order. Low-melt PSF is defined as a bi-component fiber with an outer sheath that melts at a significantly lower temperature than its inner core.

The merchandise subject to the order is currently classifiable in the HTSUS at subheadings 5503.20.00.40, 5503.20.00.45, 5503.20.00.60, and 5503.20.00.65. Although the HTSUS subheadings are provided for convenience and customs purposes, the written description of the merchandise subject to the order is dispositive.

Final Determination of No Shipments

For the final results of this review, we determine that Nan Ya had no shipments during the POR.

Final Results of the Review

The Department made no changes to its calculations announced in the Preliminary Results. As a result of our review, we determine that a weighted-average dumping margin of 0.00 percent exists for FENC for the POR.

Assessment Rates

In accordance with the Final Modification,² the Department will instruct U.S. Customs and Border Protection (CBP) to liquidate all appropriate entries for FENC without regard to antidumping duties.

² See Antidumping Proceedings: Calculation of the Weighted-Average Dumping Margin and Assessment Rate in Certain Antidumping Duty Proceedings; Final Modification, 77 FR 8101, 8102 (February 14, 2012) (Final Modification).

For entries of subject merchandise during the POR produced by FENC for which it did not know its merchandise was destined for the United States, we will instruct CBP to liquidate unreviewed entries at the all-others rate if there is no rate for the intermediate company(ies) involved in the transaction. For a full discussion, see Antidumping and Countervailing Duty Proceedings: Assessment of Antidumping Duties, 68 FR 23954 (May 6, 2003) (Assessment Policy Notice).

Consistent with the Assessment Policy Notice, because we continue to find that Nan Ya had no shipments of subject merchandise to the United States, we will instruct CBP to liquidate any applicable entries of subject merchandise at the all-others rate if there is no rate for the intermediate company(ies) involved in the transaction.

We intend to issue instructions to CBP 15 days after publication of the final results of this review.

Cash Deposit Requirements

The following deposit requirements will be effective upon publication of the notice of final results of administrative review for all shipments of PSF from Taiwan entered, or withdrawn from warehouse, for consumption on or after the date of publication as provided by section 751(a)(2) of the Act: (1) The cash deposit rate for FENC will be 0.00 percent, the weighted average dumping margin established in the final results of this administrative review; (2) for Nan Ya and previously reviewed or investigated companies not listed above, the cash deposit rate will continue to be the company-specific rate published for the most recently completed segment of this proceeding; (3) if the exporter is not a firm covered in this review, a prior review, or the original investigation but the manufacturer is, the cash deposit rate will be the rate established for the manufacturer of the merchandise for the most recently completed segment of this proceeding; (4) the cash deposit rate for all other manufacturers or exporters will continue to be 7.31 percent.³ These cash deposit requirements, when imposed, shall remain in effect until further notice.

³ The all-others rate established in the Notice of Amended Final Determination of Sales at Less Than Fair Value: Certain Polyester Staple Fiber From the Republic of Korea and Antidumping Duty Orders: Certain Polyester Staple Fiber From the Republic of Korea and Taiwan, 65 FR 33807 (May 25, 2000).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

The Department is issuing and publishing these final results of administrative review in accordance with sections 751(a)(1) and 777(i)(1) of the Act.

Dated: September 5, 2014.
Paul Piquado,
Assistant Secretary, for Enforcement and Compliance.

[FR Doc. 2014-21707 Filed 9-10-14; 8:45 am]

BILLING CODE 3510-DS-P